ENVIRONMENTAL PROTECTION AGENCY

[OPP-50893; FRL-6823-5]

Issuance of Experimental Use Permits

AGENCY: Environmental Protection Agency (EPA).

ACTION: Notice.

SUMMARY: EPA has granted experimental use permits (EUPs) to the following pesticide applicants. An EUP permits use of a pesticide for experimental or research purposes only in accordance with the limitations in the permit.

FOR FURTHER INFORMATION CONTACT: By mail: Registration Division (7505C), Office of Pesticide Programs, Environmental Protection Agency, 1200 Pennsylvania Ave., NW., Washington, DC 20460.

In person or by telephone: Contact the designated person at the following address at the office location, telephone number, or e-mail address cited in each EUP: 1921 Jefferson Davis Hwy., Arlington, VA.

SUPPLEMENTARY INFORMATION:

I. General Information

A. Does this Action Apply to Me?

This action is directed to the public in general. Although this action may be of particular interest to those persons who conduct or sponsor research on pesticides, the Agency has not attempted to describe all the specific entities that may be affected by this action. If you have any questions regarding the information in this action, consult the designated contact person listed for the individual EUP.

B. How Can I Get Additional Information, Including Copies of this Document and Other Related Documents?

You may obtain electronic copies of this document from the EPA Internet Home Page at http://www.epa.gov/. On the Home Page select “Laws and Regulations,” “Regulations and Proposed Rules,” and then look up the entry for this document under the “Federal Register—Environmental Documents.” You can also go directly to the Federal Register listings at http://www.epa.gov/fedrgstr/.

II. EUPs

EPA has issued the following EUPs:

100-EUP-RNO. Issuance. Syngenta Crop Protection, Inc., P.O. Box 18300, Greensboro, NC 27419. This EUP allows the use of 120.8 pounds of the insecticide thiamethoxam on 1,230 sq. ft. of 615 structures over a period of 3 years to evaluate the control of termites and other nuisance pests around homes. The program is authorized only in the States of Alabama, Arizona, California, Florida, Georgia, Hawaii, Kentucky, Louisiana, Mississippi, Nebraska, North Carolina, Oklahoma, South Carolina, Tennessee, Texas, and Virginia. The EUP is effective from April 30, 2002 to October 30, 2005. (Dani Daniel; Rm. 211, Crystal Mall #2; telephone number: (703) 305-5409; e-mail address: daniel.dani@epa.gov).

100-EUP-RRN. Issuance. Syngenta Crop Protection, Inc., P.O. Box 18300, Greensboro, NC 27419. This EUP allows the use of 120.8 pounds of the insecticide thiamethoxam on 1,230 sq. ft. of 615 structures over a period of 3 years to evaluate the control of termites and other nuisance pests around homes. The program is authorized only in the States of Alabama, Arizona, California, Florida, Georgia, Hawaii, Kentucky, Louisiana, Mississippi, Nebraska, North Carolina, Oklahoma, South Carolina, Tennessee, Texas, and Virginia. The EUP is effective from April 30, 2002 to October 30, 2005. (Dani Daniel; Rm. 211, Crystal Mall #2; telephone number: (703) 305-5409; e-mail address: daniel.dani@epa.gov).

Persons wishing to review these EUPs are referred to the designated contact person. Inquiries concerning these permits should be directed to the persons cited above. It is suggested that interested persons call before visiting the EPA office, so that the appropriate file may be made available for inspection purposes from 8 a.m. to 4 p.m., Monday through Friday, excluding legal holidays.

Authority: 7 U.S.C. 136.

List of Subjects

Environmental protection, Experimental use permits.

Dated: February 6, 2002.
Donald R. Stubbs,
Acting Director, Registration Division, Office of Pesticide Programs.

[FR Doc. 02-3662 Filed 2-14-02; 8:45 am]

BILLING CODE 6560-50-S